ENVIRONMENTAL PROTECTION AGENCY

40 CFR Part 52

[R05-OAR-2005-MN-0002; FRL-7958-3]

Approval and Promulgation of Air Quality Implementation Plans; Minnesota; Withdrawal of Direct Final Rule

AGENCY: Environmental Protection Agency (EPA).

ACTION: Withdrawal of direct final rule.

SUMMARY: Due to the receipt of an adverse comment the EPA is withdrawing the July 1, 2005 (70 FR 38025), direct final rule approving revisions to the sulfur dioxide requirements for Flint Hills Resources, L.P. of Dakota County, Minnesota. In the direct final rule, EPA stated that if adverse comments were submitted by August 1, 2005, the rule would be withdrawn and not take effect. On July 28, 2005, EPA received a comment from the Leech Lake Band of Ojibwe. EPA believes the comment is adverse and, therefore, EPA is withdrawing the direct final rule. EPA will address the comment in a subsequent final action based upon the proposed action also published on July 1, 2005 (70 FR 38071). EPA will not institute a second comment period on this action.

DATES: The direct final rule published at 70 FR 38025 on July 1, 2005 is withdrawn as of August 24, 2005.

FOR FURTHER INFORMATION CONTACT: Matt Rau, Environmental Engineer, Criteria Pollutant Section, Air Programs Branch (AR-18J), U.S. Environmental Protection Agency, Region 5, 77 West Jackson Boulevard, Chicago, Illinois 60604, Telephone: (312) 886-6524, e-mail: rau.matthew@epa.gov.

List of Subjects in 40 CFR Part 52

Environmental protection, Air pollution control, Incorporation by reference, Intergovernmental relations, Sulfur oxides.

Authority: 42 U.S.C. 7401 et seq.

Dated: August 8, 2005.
Norman R. Niedergang,
Acting Regional Administrator, Region 5.

PART 52—[AMENDED]

§ 52.1220 [Amended]

Accordingly, the revision of 40 CFR 52.1220(d) (which published in the Federal Register on July 1, 2005 at 70 FR 38025) is withdrawn as of August 24, 2005.

[FR Doc. 05-16810 Filed 8-23-05; 8:45 am]

BILLING CODE 6560-50-P